DEPARTMENT OF COMMERCE

International Trade Administration

Initiation of Antidumping and Countervailing Duty Administrative Reviews

AGENCY: Import Administration, International Trade Administration, Department of Commerce.

ACTION: Notice of Initiation of Antidumping and Countervailing Duty Administrative Reviews.

SUMMARY: The Department of Commerce (the Department) has received requests to conduct administrative reviews of various antidumping and countervailing duty orders and findings with October anniversary dates. In accordance with the Department's regulations, we are initiating those administrative reviews.

EFFECTIVE DATE: Novemeber 30, 2000.

FOR FURTHER INFORMATION CONTACT: Holly A. Kuga, Office of AD/CVD Enforcement, Import Administration, International Trade Administration, U.S. Department of Commerce, 14th Street and Constitution Avenue, NW, Washington, D.C. 20230, telephone: (202) 482-4737.

SUPPLEMENTARY INFORMATION:

Background

The Department has received timely requests, in accordance with 19 CFR 351.213(b)(2000), for administrative reviews of various antidumping and countervailing duty orders and findings with October anniversary dates.

Initiation of Reviews

In accordance with section 19 CFR 351.221(c)(1)(i), we are initiating administrative reviews of the following antidumping and countervailing duty orders and findings. We intend to issue the final results of these reviews not later than October 31, 2001.

| Period to be reviewed
Antidumping Duty Proceedings
Japan: Tapered Roller Bearings, Over 4 Inches,* A-588-604, NTN Corporation | 10/1/99-12/31/99
Malaysia: Extruded Rubber Thread, A-557-805, Filati Lastex Sdn. Bhd., Heveafil Sdn. Bhd., Rubberflex Sdn. Bhd. | 10/1/99-9/30/00
Republic of Korea: Stainless Steel Wire Rod,¹ A-583-829, Changwon Specialty Steel Co., Ltd., Dongbang Specialty Steel Co., Ltd. | 9/1/99-8/31/00
Taiwan: Stainless Steel Sheet and Strip in Coils,² A-583-831, Chia Far Industrial Factory Co., Ltd. | 6/8/99-6/30/00
The People's Republic of China: Helical Spring Lock Washers,³ A-570-822, Zhejiang Wanxin Group Co., Ltd. (aka Hangzhou Spring Washer Plant) | 10/1/99-9/30/00
Countervailing Duty Proceedings
India: Iron Metal Castings, C-533-063, Howrah Ferrous Limited | 1/1/99-12/31/99
*Order revoked effective 01/01/2000, as a result of sunset review.*
¹ Case inadvertently omitted from initiation notice published on October 30, 2000, (65 FR 64662).
² In the initiation notice published on September 6, 2000, (65 FR 53980), the review period for this case was incorrect and the above-listed company was inadvertently omitted. The period listed above is the correct period of review for this case and, we are adding the above-listed firm to the other firms' initiation for that review.
³ If one of the above-named companies does not qualify for a separate rate, all other exporters of helical spring lock washers from the People's Republic of China who have not qualified for a separate rate are deemed to be covered by this review as part of the single PRC entity of which the named exporters are a part.

Suspension Agreements

None.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: November 22, 2000.
Holly A. Kuga,
Acting Deputy Assistant Secretary, Group II for Import Administration.

[FR Doc. 00-30562 Filed 11-29-00; 8:45 am]

BILLING CODE 3510-DS-P